DEPARTMENT OF HEALTH AND HUMAN SERVICES

Food and Drug Administration

21 CFR Part 573

[Docket No. FDA-2014-F-2307]

Humic Product Trade Association; Withdrawal of Food Additive Petition (Animal Use)

AGENCY: Food and Drug Administration, HHS.

ACTION: Notification; withdrawal of petition.

SUMMARY: The Food and Drug Administration (FDA) is announcing the withdrawal, without prejudice to a future filing, of a food additive petition (FAP 2290) proposing that the food additive regulations be amended to provide for the safe use of humate, fluvic acid, and humic substances as a source of iron in animal feed.

DATES: The food additive petition published on January 6, 2015 (80 FR 422), was withdrawn on April 19, 2018.

ADDRESSES: For access to the docket to read background documents or comments received, go to https://www.regulations.gov and insert the docket number, found in brackets in the heading of this document, into the “Search” box and follow the prompts; and/or go to the Dockets Management Staff, 5630 Fishers Lane, Rm. 1061, Rockville, MD 20852.

FOR FURTHER INFORMATION CONTACT: Carissa Doody, Center for Veterinary Medicine (HFV-228), Food and Drug Administration, 7519 Standish Pl., Rockville, MD 20855, 240-402-6283, Carissa.doody@fda.hhs.gov.

SUPPLEMENTARY INFORMATION: In a notice of petition published in the Federal Register on January 6, 2015 (80 FR 422), FDA announced that a food additive petition (FAP 2290) had been filed by Humic Products Trade Assn., P.O. Box 963, Spring Green, WI 53588. The petition proposed to amend part 573 Food Additives Permitted in Feed and Drinking Water of Animals (21 CFR part 573), to provide for the safe use of humate, fluvic acid, and humic substances as a source of iron in animal feed. Humic Products Trade Assn., has now withdrawn the petition without prejudice to a future filing in accordance with 21 CFR 571.7.

Dated: July 13, 2018.
Leslie Kux,
Associate Commissioner for Policy.

[FR Doc. 2018-15394 Filed 7-18-18; 8:45 am]

BILLING CODE 4164-01-P